DEPARTMENT OF ENERGY

Federal Energy Regulatory Commission

[Docket No. EG02-100-000, et al.]

Choctaw Gas Generation, LLC, et al.; Electric Rate and Corporate Regulation Filings

March 8, 2002.

Take notice that the following filings have been made with the Commission. Any comments should be submitted in accordance with Standard Paragraph E at the end of this notice.

1. Choctaw Gas Generation, LLC

[Docket No. EG02-100-000]

Take notice that on March 5, 2002, Choctaw Gas Generation, LLC (Applicant), having its principal place of business at 1177 West Loop South, Suite 900, Houston, Texas 77027, filed with the Federal Energy Regulatory Commission (Commission) an application for determination of exempt wholesale generator status pursuant to Part 365 of the Commission's regulations.

Applicant states that it will own and operate a 700 MW generating facility near the city of Choctaw, Mississippi, consisting of two natural gas-fired combined-cycle combustion turbine generator units and a steam turbine generator, having a total nominal output of 700 MW. Comment Date: March 29, 2002.

2. Mirant Oregon, LLC

[Docket No. EG02-101-000]

Take notice that on March 6, 2002, Mirant Oregon, LLC (Mirant Oregon) filed with the Federal Energy Regulatory Commission (Commission) an application for determination of exempt wholesale generator status pursuant to Part 365 of the Commission's regulations.

Mirant Oregon proposes to own an indirect, 50 percent undivided interest in a 280 MW generating facility located in Morrow County, Oregon (Facility). All output from Mirant Oregon's interest in the Facility will be sold by Mirant Oregon exclusively at wholesale. All requisite state consent has been obtained and is reflected in Oregon Public Utility Commission Order Nos. 00-115 and 00-214 attached to the application. Comment Date: March 29, 2002.

3. System Energy Resources, Inc.

[Docket No. ER95-1042-006]

Take notice that on March 1, 2002, Entergy Services, Inc. (Entergy Services) as agent for System Energy Resources, Inc. (SERI), submitted for filing its response to the January 30, 2002 letter in the above-referenced docket number ER95-1042-005. Comment Date: March 21, 2002.

4. American Transmission Company LLC

[Docket Nos. ER01-1107-001]

Take notice that on March 1, 2002, American Transmission Company LLC (ATCLLC) tendered for filing with the Federal Energy Regulatory Commission's (Commission) January 30, 2002 letter Order an executed Revised Network Operating Agreement and an executed Second Revised Network Integration Service Agreement between ATCLLC and Dairyland Power Cooperative.

ATCLLC requests an effective date of February 13, 2002. Comment Date: March 21, 2002.

5. Midwest Independent Transmission System Operator, Inc.

[Docket No. ER02-438-001]

Take notice that on February 28, 2002, the Midwest Independent Transmission System Operator, Inc. (Midwest ISO) tendered for filing, pursuant to the Order of the Federal Energy Regulatory Commission (Commission) in Midwest Independent Transmission System Operator Inc., 98 FERC ¶ 61,051 (2002), Section 205 of the Federal Power Act (FPA), 16 USC 824d (2000) and Section 385.205 of the Commission's regulations, 18 CFR 385.205 (2001), revisions to Attachment M (Losses) of the Midwest ISO Open Access Transmission Tariff (OATT), FERC Electric Tariff, First Revised Volume No. 1.

The Midwest ISO has requested an effective date of March 1, 2002.

Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request. Comment Date: March 21, 2002.

6. Conectiv Bethlehem, Inc.

[Docket No. ER02-453-002]

Take notice that Conectiv Bethlehem, Inc., on March 4, 2002, tendered for filing with the Federal Energy Regulatory Commission (Commission) a revised page of CBI's Market-Based Rate Tariff, FERC Electric Tariff, Original Volume No. 1, to comply with a letter order issued by the Commission on January 31, 2002 in the above-captioned proceeding. Comment Date: March 25, 2002.

7. Midwest Independent Transmission System Operator, Inc.

[Docket No. ER02-489-001]

Take notice that on March 4, 2001, the Midwest Independent Transmission System Operator, Inc. (the Midwest ISO) tendered for filing revised pages to its Open Access Transmission Tariff (OATT), FERC Electric Tariff, Original Volume No. 1, pursuant to the Commission's Order in Midwest Independent Transmission System Operator, Inc., 98 FERC ¶ 61,087 (2002).

Pursuant to the requirements set forth in 18 CFR 385.2010 (2001), the Midwest ISO has served a copy of its compliance filing on each person whose name is listed on the official service list maintained by the Secretary in this proceeding. In addition, the Midwest ISO has electronically served a copy of this filing, with attachments, upon all Midwest ISO Members, Member representatives of Transmission Owners and Non-Transmission Owners, the Midwest ISO Advisory Committee participants, Policy Subcommittee participants, as well as all state commissions within the region. Finally, the Midwest ISO has electronically posted its filing on the Midwest ISO's Web site at www.midwestiso.org under the heading “Filings to FERC” for other interested parties in this matter. The Midwest ISO will provide hard copies to any interested parties upon request.

Comment Date: March 25, 2002.

8. Michigan Electric Transmission Company

[Docket No. ER02-562-001]

Take notice that on March 4, 2002, Michigan Electric Transmission Company (METC) tendered for filing the following tariff sheets as part of its FERC Electric Tariff, Original Volume No. 1 in compliance with the February 1, 2002 order issued in this proceeding: Sub Second Revised Sheet No 140 and Substitute Original Sheet Nos. 140A and 140B.

The sheets are to be effective as of December 13, 2001. Copies of the filing were served upon those on the official service list in this proceeding.

Comment Date: March 25, 2002.

9. Southern Company Services, Inc.

[Docket No. ER02-1210-000]

Take notice that on March 1, 2002, Southern Company Services, Inc. (SCS), acting on behalf of Alabama Power Company, Georgia Power Company, Gulf Power Company, Mississippi Power Company, and Savannah Electric and Power Company (collectively Southern Companies), filed one (1) agreement for network integration transmission service between Southern Companies and Generation Energy Marketing, a department of SCS, as agent for Mississippi Power Company, under the Open Access Transmission Tariff of Southern Companies (FERC Electric Tariff, Fourth Revised Volume No. 5). Under this agreement, power will be delivered to the East Mississippi Electric Power Association's DENA Enterprise Delivery Point. This agreement is being filed in conjunction with a power sale by SCS, as agent for Mississippi Power Company, to the East Mississippi Electric Power Association under Southern Companies' Market-Based Rate Power Sales Tariff.

Comment Date: March 22, 2002.

10. Exelon Generation Company, LLC

[Docket No. ER02-1211-000]

Take notice that on March 1, 2002, Exelon Generation Company, LLC (Exelon Generation), submitted for filing a power sales service agreement between Exelon Generation and Duke Energy Trading & Marketing, LLC under Exelon Generation's wholesale power sales tariff, FERC Electric Tariff Original Volume No. 2

Comment Date: March 22, 2002.

11. Carolina Power & Light Company

[Docket No. ER02-1212-000]

Take notice that on March 1, 2002, Carolina Power & Light Company (CP&L) tendered for filing an executed Facility Interconnection and Operating Agreement (Interconnection Agreement) between CP&L and Cogentrix Eastern Carolina, LLC (Cogentrix). The Interconnection Agreement provides for the interconnection of Cogentrix's generating facility with CP&L's transmission system.

CP&L respectfully requests that the Interconnection Agreement become effective on February 4, 2002. Copies of the filing were served upon the North Carolina Utilities Commission and the attached List of Recipients.

Comment Date: March 22, 2002.

12. Mirant Energy Trading, L.L.C.

[Docket No. ER02-1213-000]

Take notice that on March 1, 2002, Mirant Energy Trading, L.L.C. (MET) tendered for filing an application for an order accepting its FERC Electric Tariff No. 1, granting certain blanket approvals, including the authority to sell electricity at market-base rates, and waiving certain regulations of the Commission. MET requested expedited Commission consideration. MET requested that its Rate Schedule No. 1 become effective upon the earlier of the date the Commission authorizes market-based rate authority, or March 31, 2002. MET also filed its FERC Electric Tariff No. 1.

Comment Date: March 22, 2002.

13. Invenergy Energy Marketing LLC

[Docket No. ER02-1214-000]

Take notice that on March 1, 2002, Invenergy Energy Marketing LLC (Invenergy Marketing) tendered for filing an application for waivers and blanket approvals under various regulations of the Commission and for an order accepting its Rate Schedule FERC No. 1, Original Volume No. 1. Invenergy Marketing proposes that its Rate Schedule FERC No. 1, Original Volume No. 1 become effective upon issuance of a Commission order accepting the rate schedule for filing.

Invenergy Marketing intends to sell energy, capacity, replacement reserves, and certain ancillary services in the wholesale power market at market-based rates, and on such terms and conditions to be mutually agreed to with the purchasing party. Invenergy Marketing also seeks authority to reassign transmission capacity and to resell Firm Transmission Rights.

Comment Date: March 22, 2002.

14. American Electric Power Service Corporation

[Docket No. ER02-1215-000]

Take notice that on March 1, 2002 American Electric Power Service Corporation tendered for filing, on behalf of its affiliated companies including Central Power and Light Company and West Texas Utilities Company, (collectively, AEP), an Interim Qualified Scheduling Entity Service Agreement (Agreement).

AEP requests that the Agreement be made effective on March 3, 2002. Copies of the filing have been served on the party to the Agreement as well as on the Public Utility Commission of Texas.

Comment Date: March 22, 2002.

15. American Electric Power Service Corporation

[Docket No. ER02-1216-000]

Take notice that on March 1, 2002 American Electric Power Service Corporation tendered for filing, on behalf of its affiliated companies including Central Power and Light Company and West Texas Utilities Company, (collectively, AEP), seven Interim Qualified Scheduling Entity Service Agreements (Agreements).

AEP requests that the Agreements be made effective on March 3, 2002. Copies of the filing have been served on the parties to the Agreements as well as on the Public Utility Commission of Texas.

Comment Date: March 22, 2002.

16. Valero Refining Company—California

[Docket No. ER02-1217-000]

Take notice that on March 1, 2002, Valero Refining Company—California (Valero) petitioned the Federal Energy Regulatory Commission (Commission) for acceptance of Valero rate Schedule FERC No. 1; the granting of certain blanket approvals, including the authority to sell electricity at market-based rates; and the waiver of certain Commission regulations.

Valero will construct and operate a natural gas fired, combined-cycle electric generation facility. The electric output of the facility will be used for onsite purposes, with periodic excess electric energy to be sold at wholesale. Valero is an indirect, wholly owned subsidiary of Valero Energy Corporation, a Delaware corporation.

Comment Date: March 22, 2002.

17. Duke Energy Corporation

[Docket No. ER02-1218-000]

Take notice that on March 1, 2002, Duke Energy Corporation filed a Third Revised Service Agreement No. 53 to Duke's FERC Electric Tariff Second Revised Volumn No. 4

Comment Date: March 22, 2002.

18. Bangor Hydro-Electric Company

[Docket No. ER02-1219-000]

Take notice that on March 1, 2002, Bangor Hydro-Electric Company (BHE) tendered for filing an Operation and Maintenance Agreement between BHE, Great Northern Paper, Inc. (GNP), and Great Lakes Power, Inc. (GLPI).

Copies of this filing were sent to GNP, GLPI, Maclaren Energy, Inc., the Maine Public Utilities Commission, and the Maine Public Advocate.

Comment Date: March 22, 2002.

19. Central Maine Power Company

[Docket No. ER02-1220-000]

Take notice that on March 4, 2002 Central Maine Power Company (CMP) tendered for filing the Executed Interconnection Agreement by and between CMP and Wight Brook Hydro, designated as FERC Electric Tariff, Fifth Revised, Volume No. 3, Service Agreement No. 143.

Comment Date: March 25, 2002.

20. Central Maine Power Company

[Docket No. ER02-1221-000]

Take notice that on March 4, 2002, Central Maine Power Company (CMP) tendered for filing the Executed Interconnection Agreement by and between CMP and Gardner Brook Hydro, designated as FERC Electric Tariff, Fifth Revised, Volume No. 3, Service Agreement No. 144.

Comment Date: March 25, 2002.

21. Central Maine Power Company

[Docket No. ER02-1222-000]

Take notice that on March 4, 2002, Central Maine Power Company (CMP) tendered for filing the Executed Interconnection Agreement by and between CMP and Stony Brook Hydro, designated as FERC Electric Tariff, Fifth Revised, Volume No. 3, Service Agreement No. 142.

Comment Date: March 25, 2002.

22. Central Maine Power Company

[Docket No. ER02-1223-000]

Take notice that on March 4, 2002 , Central Maine Power Company (CMP) tendered for filing unexecuted Local Network Operating Agreements (LNOAs) and unexecuted service agreements for Local Network Transmission Service (LNSA) entered into with four retail customers: Miller Hydro Group; Topsham Hydro Partners; United American Hydro, L.P.; and CHI Operations, Inc.—Mechanic Falls Hydro. Service will be provided pursuant to CMP's Open Access Transmission Tariff, designated rate schedule CMP—FERC Electric Tariff, Fifth Revised Volume No. 3, under the following Service Agreement Numbers:

Miller Hydro Group LNSA—Service Agreement No. 145

Miller Hydro Group LNOA—Service Agreement No. 146

United American Hydro LNSA—Service Agreement No. 147

United American Hydro LNOA—Service Agreement No. 148

CHI Operations, Inc. LNSA—Service Agreement No. 149

CHI Operations Inc. LNOA—Service Agreement No. 150

Topsham Hydro LNSA—Service Agreement No. 151

Topsham Hydro LNOA—Service Agreement No. 152.

Comment Date: March 25, 2002.

23. California Independent System Operator Corporation

[Docket No. ER02-1224-000]

Take notice that on March 4, 2002, the California Independent System Operator Corporation, (ISO) tendered for filing with the Federal Energy Regulatory Commission (Commission) a Participating Generator Agreement between the ISO and Delta Energy Center, LLC for acceptance by the Commission.

The ISO states that this filing has been served on Delta Energy Center, LLC and the California Public Utilities Commission. The ISO is requesting waiver of the 60-day notice requirement to allow the Participating Generator Agreement to be made effective February 8, 2002.

Comment Date: March 25, 2002.

24. California Independent System Operator Corporation

[Docket No. ER02-1225-000]

Take notice that on March 4, 2002, the California Independent System Operator Corporation (ISO) tendered for filing with the Federal Energy Regulatory Commission (Commission) a Scheduling Coordinator Agreement between the ISO and TransAlta Energy Marketing (U.S.) Inc., for acceptance by the Commission.

The ISO states that this filing has been served on TransAlta Energy Marketing (U.S.) Inc. and the California Public Utilities Commission. The ISO is requesting waiver of the 60-day notice requirement to allow the Participating Generator Agreement to be made effective February 8, 2002.

Comment Date: March 25, 2002.

25. California Independent System Operator Corporation

[Docket No. ER02-1226-000]

Take notice that on March 4, 2002,the California Independent System Operator Corporation, (ISO) tendered for filing with the Federal Energy Regulatory Commission (Commission) a Meter Service Agreement for ISO Metered Entities between the ISO and Delta Energy Center, LLC for acceptance by the Commission.

The ISO states that this filing has been served on Delta Energy Center, LLC and the California Public Utilities Commission. The ISO is requesting waiver of the 60-day notice requirement to allow the Meter Service Agreement for ISO Metered Entities to be made effective February 8, 2002.

Comment Date: March 25, 2002.

26. Midwest Independent Transmission System Operator, Inc.

[Docket No. ER02-1227-000]

Take notice that on March 4, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Ameren Energy Marketing Company.

A copy of this filing was sent to Ameren Energy Marketing Company.

Comment Date: March 25, 2002.

27. Midwest Independent Transmission System Operator, Inc.

[Docket No. ER02-1228-000]

Take notice that on March 4, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by CMS MS&T Michigan L.L.C.

A copy of this filing was sent to CMS MS&T Michigan L.L.C.

Comment Date: March 25, 2002.

28. Midwest Independent Transmission System Operator, Inc.

[Docket No. ER02-1229-000]

Take notice that on March 4, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Kansas City Power & Light Company.

A copy of this filing was sent to Kansas City Power & Light Company.

Comment Date: March 25, 2002.

29. Midwest Independent Transmission System Operator, Inc.

[Docket No. ER02-1230-000]

Take notice that on March 4, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by NRG Power Marketing Inc.

A copy of this filing was sent to NRG Power Marketing Inc.

Comment Date: March 25, 2002.

30. Midwest Independent Transmission System Operator, Inc.

[Docket No. ER02-1231-000]

Take notice that on March 4, 2002, pursuant to Section 205 of the Federal Power Act and Section 35.13 of the Federal Energy Regulatory Commission's (Commission) Regulations, 18 CFR 35.13, the Midwest Independent Transmission System Operator, Inc. (Midwest ISO) submitted for filing a Service Agreements for the transmission service requested by Public Service Company of Colorado-Marketing.

A copy of this filing was sent to Public Service Company of Colorado-Marketing.

Comment Date: March 25, 2002.

31. Midwest Independent Transmission System Operator, Inc.

[Docket No. ER02-1232-000]

Take notice that on March 4, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by Southwestern Public Service Company-Marketing.

A copy of this filing was sent to Southwestern Public Service Company-Marketing.

Comment Date: March 25, 2002.

32. Midwest Independent Transmission System Operator, Inc.

[Docket No. ER02-1233-000]

Take notice that on March 4, 2002, pursuant to section 205 of the Federal Power Act and section 35.13 of the Federal Energy Regulatory Commission's (Commission) Regulations, 18 CFR 35.13, the Midwest Independent Transmission System Operator, Inc. (Midwest ISO) submitted for filing a Service Agreements for the transmission service requested by Wolverine Power Supply Cooperative, Inc.

A copy of this filing was sent to Wolverine Power Supply Cooperative, Inc.

Comment Date: March 25, 2002.

33. Pinnacle West Capital Corporation

[Docket No.ER02-1234-000]

Take notice that on March 4, 2002, Pinnacle West Capital Corporation (PWCC) tendered for filing a Service Agreement, Rate Schedule FERC No. 9 under PWCC's Rate Schedule FERC No. 1 for service to Central Arizona Water Conservation District (CAW).

A copy of this filing has been served on CAW.

Comment Date: March 25, 2002.

34. Central Illinois Light Company

[Docket No. ER02-1235-000]

Take notice that on March 4, 2002,Central Illinois Light Company (CILCO), tendered for filing with the Commission a Service Agreement with Corn Belt Energy Corporation under its Market Rate Power Sales Tariff.

CILCO requested an effective date of April 1, 2002. Copies of the filing were served on the affected customer and the Illinois Commerce Commission.

Comment Date: March 25, 2002.

35. Illinois Power Company

[Docket No. ER02-1236-000]

Take notice that on March 4, 2002, Illinois Power Company (Illinois Power), filed with the Federal Energy Regulatory Commission (Commission) a Notice of Termination, effective at 11:59 p.m., January 15, 2002, of the Firm Short-Term Point to Point Transmission Service Agreement and the Non-Firm Point to Point Transmission Service Agreement, entered into by Illinois Power and The Legacy Energy Group, LLC, each dated May 16, 2001 and effective on June 1, 2001, as Original Service Agreement Nos. 304 and 310, respectively, under FERC Electric Tariff Third Revised Volume 8 of Illinois Power.

Illinois Power states that the termination has been requested by the customer and agreed to by Illinois Power. Illinois Power further states that a copy of the Notice of Termination has been mailed to the customer.

Comment Date: March 25, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-6241 Filed 3-14-02; 8:45 am]

BILLING CODE 6717-01-P